DEPARTMENT OF HOUSING AND URBAN DEVELOPMENT

[Docket No. FR-7075-N-12]

60-Day Notice of Proposed Information Collection: Assessing CDBG-DR and Disaster Recovery Outcomes of Renter Households, OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 28, 2023.

ADDRESSES: Interested persons are invited to submit comments regarding this proposal.

Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email Anna Guido at Anna.P.Guido@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Assessing CDBG-DR and Disaster Recovery Outcomes of Renter Households.

OMB Approval Number: 2528-XXXX.

Type of Request: New data collection.

Form Number: N/A.

Description of the need for the information and proposed use: The Office of Policy Development and Research (PD&R), at the U.S. Department of Housing and Urban Development (HUD), is proposing the collection of information for the HUDRD CDBG Disaster Recovery Outcomes of Renter Households Cooperative Agreement.

The goal of this research is to improve disaster recovery effectiveness for renter households by examining the disaster recovery outcomes of renter households and rental housing stock in places that received Community Development Block Grant-Disaster Recovery grants (CDBG-DR). This research is expected to help the Federal government, states, and communities throughout the United States improve disaster recovery effectiveness for renter households by providing information about how disaster recovery programs funded through CDBG-DR have different impacts on renters and homeowners, and how disasters impact affordable rental housing stock over time. This research will be used to assess renter outcomes, barriers to accessing recovery resources, and mechanisms of Federal and local implementation of CDBG-DR grants. Results from this study will support HUD in identifying opportunities for changes to legislation, policy and program implementation in disaster recovery to improve outcomes for renters.

This Federal Register Notice provides an opportunity to comment on the information collection for this study titled HUDRD CDBG Disaster Recovery Outcomes of Renter Households. The information collection is designed to support the study of disaster outcomes on renters, including to better understand CDBG-DR allocations across housing tenure, specifically for renters, identify successful processes with corresponding outcomes for rental housing recovery aid programs and translate this research into actionable programmatic recommendations with appropriate timelines, policy making and implementation changes to improve these outcomes. The study includes a survey, interviews and focus groups in communities that have received CDBG-DR funding.

Respondents: CDBG-DR grantee representatives and administrators; elected and appointed government officials in CDBG-DR grantee jurisdictions and municipalities; landlords and developers in CDBG-DR grantee jurisdictions; representatives from housing and tenant advocacy organizations; and renters living in CDBG-DR grantee jurisdictions.

Estimated Number of Respondents: This information collection will affect approximately 435 respondents. This includes: (1) 150 individual qualitative interviews with renters, rental property developers and landlords within the study area; (2) 185 responses to a renter focused survey; (3); (4) 50 focus group participants in 5 focus groups; and (5) 50 responses to a survey of CDBG-DR recipients.

Estimated Time per Response: Interviews are expected to take one hour each, surveys of renters are expected to take 30 minutes each, surveys of CDBG-DR recipients are expected to take up to one hour each, and renter focus groups are expected to take four hours and will meet twice. The total estimated time is 692.5 hours.

Frequency of Response: One time for each interview and survey. Focus groups will meet twice.

Estimated Total Annual Cost: $30,576.48 for all individual document/information solicited for related research activities covered under approval for researchers conducting primary (interview, survey, focus group) data collection and research participants.

The Table below provides the estimated burden hours for in-person focus groups, interviews, and survey data collection. These estimates assume the maximum targeted number of study participants and are calculated as the time needed to complete individual surveys and interviews or participate in focus groups.

Calculating the annual total cost burden to respondents, the project team utilized Occupational Employment Statistics from the U.S. Department of Labor's Bureau of Labor Statistics to identify the median hourly wages (as classified by Standard Occupational Classification, SOC, codes) for potentially relevant occupations for interview and focus group participants.

Annualized Burden Table
Information collection | Number of respondents | Frequency of response | Responses per annum | Burden hour per response | Annual burden hours | Hourly cost per response | Cost
Interviews with renters, developers, landlords. | 150 | 1 | 1 | 1 | 150 | $43.07 | $6,460.5
Surveys of Renters | 185 | 1 | 1 | 0.5 | 92.5 | 43.07 | 3,983.98
Renter focus groups | 50 | 1 | 2 | 4 | 400 | 43.07 | 17,228.00
Survey of CDBG-DR recipients | 50 | 1 | 1 | 1 | 50 | 58.08 | 2,904.00
Total | 435 |  |  |  | 692.5 |  | 30,576.48

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Kurt G. Usowski,
Deputy Assistant Secretary for Economic Affairs.

[FR Doc. 2023-21438 Filed 9-28-23; 8:45 am]

BILLING CODE 4210-67-P